NATIONAL AERONAUTICS AND SPACE ADMINISTRATION

[Notice (11-105)]

Aerospace Safety Advisory Panel; Charter Renewal

AGENCY: National Aeronautics and Space Administration (NASA).

ACTION: Notice of renewal and amendment of the charter of the NASA Aerospace Safety Advisory Panel.

SUMMARY: Pursuant to sections 14(b)(1) and 9(c) of the Federal Advisory Committee Act (Pub. L. 92-463), and after consultation with the Committee Management Secretariat, General Services Administration, the NASA Administrator has determined that a renewal and amendment of the charter of the NASA Aerospace Safety Advisory Panel is in the public interest in connection with the performance of duties imposed on NASA by law. The renewed charter is for a two-year period ending October 13, 2013. It is identical to the previous charter in all respects except it removes references to areas of responsibility that are no longer applicable, updates legal citations, and conforms the text to the most recent Congressional reauthorization for this Federal advisory committee (Pub. L. 111-314 on December 18, 2010).

FOR FURTHER INFORMATION CONTACT: Ms. Susan M. Burch, Advisory Committee Management Division, Office of International and Interagency Relations, (202) 358-0550, National Aeronautics and Space Administration, Washington, DC 20546-0001.

October 18, 2011.
P. Diane Rausch,
Advisory Committee Management Officer, National Aeronautics and Space Administration.

[FR Doc. 2011-27407 Filed 10-21-11; 8:45 am]

BILLING CODE 7510-13-P